DEPARTMENT OF ENERGY

Federal Energy Regulatory Commission

[Docket No. RT01-67-000]

GridFlorida LLC, Florida Power & Light Co., Florida Power Corporation, Tampa Electric Co., Notice of Filing

October 20, 2000.

Take notice that on October 16, 2000, Florida Power & Light Company, Florida Power Corporation, and Tampa Electric Company (collectively, the Applicants), pursuant to Sections 203 and 205 of the Federal Power Act, jointly filed their Order No. 2000 compliance filing providing for the creation of a Regional Transmission Organization (RTO). The Applicants propose to form GridFlorida LLC, a for profit transmission company that will act as the RTO for the Florida Reliability Coordinating Council region.

The Applicants explain that, while their Application is complete, implementation details remain to be resolved. The Applicants commit to continue the collaborative process established in Florida to address such details and to make an additional filing on December 15, 2000. At the same time, the Applicants are requesting a ruling from the Commission by December 15, 2000 on certain issues related to the formation of GridFlorida.

Any person desiring to be heard or to protest such filing should file a motion to intervene, comments, or protest with the Federal Energy Regulatory Commission, 888 First Street, NE., Washington, DC 20426, in accordance with Rules 211 and 214 of the Commission's Rules of Practice and Procedure (18 CFR 385.211 and 385.214). All such motions, comments and protests should be filed on or before November 20, 2000. Protests will be considered by the commission to determine the appropriate action to be taken, but will not serve to make protestants parties to the proceedings. Any person wishing to become a party must file a motion to intervene. Copies of this filing are on file with Commission and are available for public inspection. This filing may also be viewed on the Internet at http://www.ferc.fed.us/online/rims.htm (call 202-208-2222 for assistance). Beginning November 1, 2000, comments and protests may be filed electronically via the internet in lieu of paper. See 18 CFR 385.2001(a)(1)(iii) and the instructions on the Commission's web site at http://www.ferc.fed.us/efi/doorbell.htm.

Linwood A. Watson, Jr.,
Acting Secretary.

[FR Doc. 00-27552 Filed 10-25-00; 8:45 am]

BILLING CODE 6717-01-M